DEPARTMENT OF ENERGY

Environmental Management Site-Specific Advisory Board, Savannah River Site; Correction

AGENCY: Office of Environmental Management, Department of Energy.

ACTION: Notice of open meeting; correction.

SUMMARY: On October 23, 2024, the Department of Energy published a notice of open meeting announcing a meeting on November 18-19, 2024, of the Environmental Management Site-Specific Advisory Board (EM SSAB), Savannah River Site. This document makes a location correction to that notice resulting from the availability of the meeting location impacted by the recent hurricane.

FOR FURTHER INFORMATION CONTACT: James Tanner, Office of External Affairs, U.S. Department of Energy (DOE), Savannah River Operations Office, P.O. Box A, Aiken, SC 29802; Phone: (803) 646-2167; or Email: james.tanner@srs.gov.

SUPPLEMENTARY INFORMATION:

Correction

In the Federal Register of October 23, 2024, in FR Doc. 2024-24573, on page 84557, starting in the second column, correct the ADDRESSES caption to read:

ADDRESSES: Augusta Marriott at the Convention Center, 2 10th Street, Augusta, GA 30901. The meeting will also be streamed on YouTube, no registration is necessary; links for the livestream can be found on the following website: https://cab.srs.gov/srs-cab.html.

Signing Authority: This document of the Department of Energy was signed on October 25, 2024, by Alyssa Petit, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 25, 2024.
Jennifer Hartzell,
Alternate Federal Register Liaison Officer, U.S. Department of Energy.

[FR Doc. 2024-25269 Filed 10-30-24; 8:45 am]

BILLING CODE 6450-01-P